DEPARTMENT OF COMMERCE

International Trade Administration

[A-823-815]

Oil Country Tubular Goods From Ukraine: Notice of Amended Final Results of Antidumping Duty Administrative Review Pursuant to Settlement

AGENCY: Enforcement and Compliance, International Trade Administration, Department of Commerce.

SUMMARY: The U.S. Department of Commerce (Commerce) is issuing these amended final results pursuant to a settlement agreement with Interpipe Ukraine LLC and North American Interpipe Inc. with respect to the final results of the administrative review of oil country tubular goods (OCTG) from Ukraine during the period of review (POR) July 10, 2019, through June 30, 2020.

DATES: Applicable May 8, 2024.

FOR FURTHER INFORMATION CONTACT: Toni Page, AD/CVD Operations, Office VII, Enforcement and Compliance, International Trade Administration, U.S. Department of Commerce, 1401 Constitution Avenue NW, Washington, DC 20230; telephone: (202) 482-1398.

SUPPLEMENTARY INFORMATION:

Background

On February 10, 2022, the Department of Commerce (Commerce) published the final results of its administrative review of the antidumping duty order on OCTG from Ukraine.¹ The POR is July 10, 2019 through June 30, 2020.

¹ See Oil Country Tubular Goods from Ukraine: Final Results of Antidumping Duty Administrative Review; 2019-2020, 87 FR 7801 (February 10, 2022) (Final Results).

The administrative review covers Interpipe,² a producer and exporter of OCTG from Ukraine to the United States. In the Final Results, Commerce assigned to Interpipe a weighted-average dumping margin of 27.80 percent for the POR.³

² Commerce has previously determined that Interpipe Europe S.A.; Interpipe Ukraine LLC; PJSC Interpipe Niznedneprovsky Tube Rolling Plant; and LLC Interpipe Niko Tube are affiliated and treated as a single entity (i.e., Interpipe).

³ See Final Results at 87 FR 7801.

Following the publication of the Final Results, Interpipe filed a lawsuit with the U.S. Court of International Trade (CIT) challenging certain aspects of Commerce's Final Results including Commerce's decision not to grant a constructed export price offset to Interpipe and Commerce's decision to include Section 232 duties in the U.S. price when calculating the margin.

On April 30, 2024, the United States and Interpipe entered into an agreement to settle this dispute. Pursuant to the terms of settlement and the stipulation for entry of judgment, the amended final weighted-average dumping margin for Interpipe is 0.01 percent. The CIT issued its order of judgment by stipulation on May 2, 2024.⁴

⁴ See Interpipe Ukraine LLC and North America Interpipe, Inc. v. United States, Court No. 22-00066, Doc. No. 36 (May 2, 2024).

Assessment Rates

Consistent with the settlement agreement and May 2, 2024, order of judgment by stipulation, Commerce will instruct U.S. Customs and Border Protection (CBP) to liquidate all unliquidated entries of OCTG from Ukraine produced and exported by Interpipe, and entered, or withdrawn from warehouse, for consumption in the United States during the POR at the importer-specific per-unit assessment rates determined by setting Interpipe's weighted-average dumping margin at 0.01 percent (de minimis). Pursuant to section 751(a)(2)(C) of the Tariff Act of 1930, as amended (the Act), and 19 CFR 351.212(b)(1), Commerce has determined, and U.S. Customs and Border Protection (CBP) shall assess, antidumping duties on all appropriate entries of subject merchandise in accordance with these revised final results of review.⁵ For Interpipe, we will calculate importer-specific assessment rates on the basis of the ratio of the total amount of antidumping duties calculated for each importer's examined sales and the total entered value of the sales, in accordance with 19 CFR 351.212(b)(1). Because Interpipe's weighted average dumping margin is zero or de minimis within the meaning of 19 CFR 351.106(c)(1), we will instruct CBP to liquidate the appropriate entries without regard to antidumping duties.

⁵ See Antidumping and Countervailing Duty Proceedings: Assessment of Antidumping Duties, 68 FR 23954 (May 6, 2003).

Consistent with Commerce's assessment practice, for entries of subject merchandise during the POR produced by Interpipe for which it did not know that the merchandise was destined for the United States, we will instruct CBP to liquidate unreviewed entries at the all-others rate if there is no rate for the intermediate company(ies) involved in the transaction.⁶

Cash Deposit Requirements

Because Interpipe has a superseding cash deposit rate, i.e., there have been final results published in a subsequent administrative review, we will not issue revised cash deposit instructions to CBP. This notice will not affect the current cash deposit rate for Interpipe.

Notification to Interested Parties

We are issuing this determination and publishing these amended final results and notice in accordance with section 516a(e) of the Act.

Dated: May 2, 2024.
Ryan Majerus,
Deputy Assistant Secretary for Policy and Negotiations, performing the non-exclusive functions and duties of the Assistant Secretary for Enforcement and Compliance.

[FR Doc. 2024-10052 Filed 5-7-24; 8:45 am]

BILLING CODE 3510-DS-P